DEPARTMENT OF ENERGY

Western Area Power Administration

Desert Southwest Region and Western Area Lower Colorado Balancing Authority—Rate Order No. WAPA-200

AGENCY: Western Area Power Administration, DOE.

ACTION: Notice of proposed extension of formula rates.

SUMMARY: The Desert Southwest Region (DSW) of the Western Area Power Administration (WAPA) proposes to extend existing formula rates for Network Integration Transmission Service (Network) on the Parker-Davis Project (P-DP) and Pacific Northwest-Pacific Southwest Intertie Project (Intertie), along with formula rates for ancillary services, transmission losses, and unreserved use penalties applicable to Western Area Lower Colorado Balancing Authority. The existing formula rates under Rate Schedules PD-NTS4, INT-NTS4, DSW-SD4, DSW-RS4, DSW-FR4, DSW-EI4, DSW-SPR4, DSW-SUR4, DSW-GI2, DSW-TL1, and DSW-UU1 expire on September 30, 2021. These rate schedules would remain unchanged and would be extended through September 30, 2026.

DATES: A consultation and comment period will begin July 8, 2021 and end July 23, 2021. DSW will accept written comments at any time during the consultation and comment period.

ADDRESSES: Written comments and requests to be informed of Federal Energy Regulatory Commission (FERC) actions concerning the proposed extension submitted by WAPA to FERC for approval should be sent to: Jack D. Murray, Acting Regional Manager, Desert Southwest Region, Western Area Power Administration, P.O. Box 6457, Phoenix, AZ 85005-6457, or email: dswpwrmrk@wapa.gov. DSW will post information about the proposed formula rate extension and written comments received to its website at: https://www.wapa.gov/regions/DSW/Rates/Pages/rates.aspx.

FOR FURTHER INFORMATION CONTACT: Tina Ramsey, Rates Manager, Desert Southwest Region, Western Area Power Administration, (602) 605-2565 or email: dswpwrmrk@wapa.gov.

SUPPLEMENTARY INFORMATION: On January 12, 2017, FERC approved and confirmed Rate Schedules P-DP Network (PD-NTS4), Intertie Network (INT-NTS4), Scheduling, System Control, and Dispatch (DSW-SD4), Reactive Supply and Voltage Control (DSW-RS4), Regulation and Frequency Response (DSW-FR4), Energy Imbalance (DSW-EI4), Generator Imbalance (DSW-GI2), Spinning Reserve (DSW-SPR4), Supplemental Reserve (DSW-SUR4), Transmission Losses (DSW-TL1), and Unreserved Use Penalties (DSW-UU1) under Rate Order No. WAPA-175 for a 5-year period through September 30, 2021.¹ These rate schedules also contain formula rates that are calculated each fiscal year to include the most recent financial, load, and schedule information, as applicable.

¹ Order Confirming and Approving Rate Schedules on a Final Basis, FERC Docket Nos. EF16-6-000 and EF16-6-001, 158 FERC ¶ 62,027 (2017).

In accordance with 10 CFR 903.23(a),² DSW is proposing to extend the existing formula rates under these Rate Schedules for Network, ancillary services, transmission losses, and unreserved use penalties for a 5-year period through September 30, 2026. The existing formula rates for these services were designed to recover the costs incurred for providing each service, which is consistent with the cost recovery criteria set forth in Department of Energy (DOE) Order No. RA 6120.2. These formula rates continue to provide sufficient revenue to cover expenses, and no adjustments are necessary.

² 50 FR 37835 (Sept. 18, 1985) and 84 FR 5347 (Feb. 21, 2019).

In accordance with 10 CFR 903.23(a), WAPA has determined it is not necessary to hold public information or public comment forums for this rate action, but is initiating a 15-day consultation and comment period to give the public an opportunity to comment on the proposed extension. DSW will review and consider all timely public comments at the conclusion of the consultation and comment period and adjust the proposal, if appropriate.

Legal Authority

By Delegation Order No. 00-037.00B, effective November 19, 2016, the Secretary of Energy delegated: (1) The authority to develop power and transmission rates to WAPA's Administrator; (2) the authority to confirm, approve, and place such rates into effect on an interim basis to the Deputy Secretary of Energy; and (3) the authority to confirm, approve, and place into effect on a final basis, or to remand or disapprove such rates, to FERC. By Delegation Order No. S1-DEL-S4-2021, effective February 25, 2021, the Acting Secretary of Energy also delegated the authority to confirm, approve, and place such rates into effect on an interim basis to the Under Secretary for Science (and Energy). By Redelegation Order No. S4-DEL-OE1-2021, effective March 25, 2021, the Acting Under Secretary for Science (and Energy) redelegated the authority to confirm, approve, and place such rates into effect on an interim basis to the Assistant Secretary for Electricity. By Redelegation Order No. 00-002.10-05, effective July 8, 2020, the Assistant Secretary for Electricity further redelegated the authority to confirm, approve, and place such rates into effect on an interim basis to WAPA's Administrator. This redelegation order, despite predating the February 2021 and March 2021 delegations, remains valid.

Ratemaking Procedure Requirements

Environmental Compliance

WAPA is in the process of determining whether an environmental assessment or an environmental impact statement should be prepared or if this action can be categorically excluded from those requirements.³

³ In compliance with the National Environmental Policy Act (NEPA) of 1969, as amended, 42 U.S.C. 4321-4347; the Council on Environmental Quality Regulations for implementing NEPA (40 CFR parts 1500-1508); and DOE NEPA Implementing Procedures and Guidelines (10 CFR part 1021).

Determination Under Executive Order 12866

WAPA has an exemption from centralized regulatory review under Executive Order 12866; accordingly, no clearance of this notice by the Office of Management and Budget is required.

Signing Authority

This document of the Department of Energy was signed on June 28, 2021, by Tracey A. LeBeau, Interim Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 1, 2021.
Treena V. Garrett,
Federal Register Liaison Officer, U.S. Department of Energy.

[FR Doc. 2021-14499 Filed 7-7-21; 8:45 am]

BILLING CODE 6450-01-P